FEDERAL MINE SAFETY AND HEALTH REVIEW COMMISSION

Sunshine Act Meeting

October 2, 2007.

Time and Date: 10 a.m., Thursday, October 11, 2007.

Place: The Richard V. Backley Hearing Room, 9th Floor, 601 New Jersey Avenue, NW., Washington, DC.

Status: Open.

Matters to be Considered: The Commission will consider and act upon the following in open session: Secretary of Labor v. The American Coal Company, Docket Nos. LAKE 2005-129 and LAKE 2006-28. (Issues include whether the Administrative Law Judge erred in concluding that the operator violated the escapeway requirements of 30 CFR 75.380(a).)

Any person attending this meeting who requires special accessibility features and/or auxiliary aids, such as sign language interpreters, must inform the Commission in advance of those needs. Subject to 29 CFR 2706.150(a)(3) and 2706.160(d).

Contact Person for More Info: Jean Ellen, (202) 434-9950/(202) 708-9300 for TDD Relay/1-800-877-8339 for toll free.

Jean H. Ellen,
Chief Docket Clerk.

[FR Doc. 07-5168 Filed 10-16-07; 12:37 pm]

BILLING CODE 6735-01-M